DEPARTMENT OF TRANSPORTATION

Federal Railroad Administration

Federal Transit Administration

Environmental Impact Statement for Implementation of Passenger Rail Service Between Tucson, AZ and Phoenix, AZ

AGENCY: Federal Railroad Administration (FRA) and Federal Transit Administration (FTA), DOT.

ACTION: Notice of intent to prepare an environmental impact statement (EIS).

SUMMARY: The FRA and FTA are issuing this Notice of Intent (NOI) to advise other agencies and the public that they will jointly prepare an EIS to study the implementation of passenger rail service between Tucson, Arizona and Phoenix, Arizona and to serve communities in between the two metropolitan areas (the proposed action).

The FRA, FTA, and Arizona Department of Transportation (ADOT) will use a tiered process, as described in the regulations of the Council on Environmental Quality (CEQ) implementing the National Environmental Policy Act of 1969 (42 U.S.C. 4321 et seq.) at 40 CFR 1502.20 and 1508.28 (NEPA) and FTA's environmental procedures at 23 CFR 771.111(g) and 774.7. This EIS is the first planning-level tier of the two-tiered environmental review process for the proposed action.

FRA and FTA are issuing this Notice to alert interested parties, to solicit public and agency input on the scope of the Tier 1 EIS, provide information on the nature of the proposed project, including the purpose and need for the proposed action, possible alternatives to be considered in the preparation of the Tier 1 EIS, potentially significant impacts to the natural and built environment of those alternatives, and invite public participation in the EIS process.

The Tier 1 EIS will be prepared in accordance with the National Environmental Policy Act (NEPA), the CEQ regulations implementing NEPA, the FRA's Procedures for Considering Environmental Impacts as set forth in 64 FR 28545 dated May 26, 1999 (Environmental Procedures), and FTA's Environmental Impact and Related Procedures, in 23 CFR part 771. The EIS will also address Section 106 of the National Historic Preservation Act, Section 4(f) of the U.S. Department of Transportation Act of 1966 (49 U.S.C. 303) and other applicable Federal and state laws and regulations to the extent relevant for a planning-level Tier-1 document. In addition, the Tier 1 study will incorporate the alternatives analyses process required by Federal transit law (49 U.S.C. 5309) and regulation (49 CFR part 611) for a project proposed for New Starts funding.

Environmental Review Process: The FRA and FTA will use a tiered process, as provided for in 40 CFR 1508.28 and in accordance with FRA guidance, in the completion of the environmental review of the proposed action. “Tiering” is a staged environmental review process applied to environmental reviews for complex projects. The Tier 1 EIS will address broad corridor-level issues and alternatives. Subsequent tiers will analyze site-specific component projects and alternatives based on the decisions made in Tier 1.

Tier 1: The Tier 1 assessment will result in a NEPA document with the appropriate level of detail for corridor-level decisions and will address broad overall issues of concern, including but not limited to:

• Confirming the purpose and need for the proposed action.

• Confirming the study area appropriate to assess reasonable alternatives.

• Developing evaluation criteria to identify alternatives that meet the purpose and need of the proposed action and those that do not.

• Identifying the range of reasonable alternatives to be considered, including the no action alternative, consistent with the current and planned use of the corridor and the existing services within and adjacent to the study area.

• Identifying the general alignment(s) of the reasonable alternatives.

• Identifying right-of-way requirements for the reasonable alternatives.

• Identifying the infrastructure and equipment investment requirements for the reasonable alternatives.

• Specifying the future no-build alternative that reflects already planned highway and transit developments in the study area expected to be in place by the project design year.

• Specifying the New Starts baseline alternative that addresses the proposed action's purpose and need to the maximum extent possible without a new transit fixed guideway.

• Identifying the operational changes required for the reasonable alternatives.

• Describing and evaluating the potential environmental impacts and mitigation associated with the proposed alternatives in the level of detail appropriate for a Tier 1 EIS.

• Establishing the timing and sequencing of independent actions to implement the proposed action.

• Evaluating the transit alternatives under the New Starts criteria specified in 49 U.S.C. 5309 and 49 CFR part 611. The transit alternatives may be subsets of the full build alternatives that provide intercity rail service.

• Identifying the Locally Preferred Alternative (LPA), FTA's planning level alternative for the New Starts program, through an Alternatives Analysis process.

Tier 2: The Tier 2 assessments will not be included in this study but will be identified as future actions to address components of the planning level alternative selected at the conclusion of the Tier 1 EIS.

This Tier 1 EIS preparation will include initial planning level elements of a Service Development Plan; present corridor route alternatives; and provide conceptual engineering designs of track, ancillary facilities, stations, and other major design features to a level sufficient to allow for meaningful understanding and comparison of alternatives. The Tier 1 EIS will provide programmatic assessment of environmental effects associated with the construction, operation, and maintenance components of the proposed action. The Tier 1 EIS will evaluate a range of reasonable corridor-level alternatives to include the “Baseline Conditions” and “No Action” Alternatives. Build alternatives may occur along existing rail line(s) or may be on a new alignment. The EIS will provide for: (1) An FTA-compliant Alternatives Analysis and (2) an FTA-compliant Tier 1 Environmental Impact Statement.

DATES: Public Scoping meetings will be held on the following dates, locations, and times:

October 11, 2011 in the Burton Barr Central Library, 1221 N. Central Avenue, Phoenix, AZ, from 3 p.m. to 7 p.m.;

October 13, 2011 in the Pima Community College, Northwest Campus, 7600 North Shannon Road, Tucson, AZ, from 3 p.m. to 7 p.m.; and

October 19, 2011 in the Central Arizona College, Signal Peak Campus, 8470 N. Overfield Road, Coolidge, AZ from 3 p.m. to 7.

The buildings used for the meetings are accessible to persons with disabilities. Any individual who requires special assistance, such as a sign language interpreter, to participate in the meetings should contact Kristin Bornstein at KDA Creative, telephone (602) 368-9644, five days prior to the meeting.

To ensure all significant issues are identified and considered, the public will be invited to comment on the proposed action. Comments by members of the public on the scope of the Tier 1 EIS, including the proposed action's purpose and need, the alternatives to be considered, the impacts to be evaluated, and the methodologies to be used in the evaluations will be accepted at the public scoping meetings. Those attending the public scoping meetings will be asked to register at the meeting location. At the meeting, comments may also be submitted in written form, or orally one-on-one to a stenographer. Interested parties may also submit their comments in writing or via email to the persons identified below, on or before November 4, 2011.

For Further Information Regarding the Scoping Meetings, Please Contact:

Ms. Kristin Bornstein, KDA Creative, 4545 E. Shea Blvd., Suite 210, Phoenix, AZ 85028, telephone (602) 368-9644, e-mail Kristin@kdacreative.com.

Information and documents regarding the environmental review process will also be made available through appropriate means, including the project Web site: http://www.azdot.gov/intercityrail.

For Further Information About the Project Contact:

Ms. Andrea Martin, Federal Railroad Administration, 1200 New Jersey Ave, SE., Mail Stop 20, Washington, DC 20590, telephone (202) 493-6201;

Ms. Amy Zaref, telephone (202) 641-8050 or Mr. Alex Smith, Federal Transit Administration Region 9, 201 Mission St., Suite 1650, San Francisco, CA 94105, telephone (415) 744-3133.

SUPPLEMENTARY INFORMATION:

I. Description of Project Area

The study area is located within the Sun Corridor region, an area defined by the limits of three contiguous Arizona counties: Maricopa, Pinal, and Pima. In 2011, the area is characterized by urban densities at the northern and southern limits of the study area (Phoenix Metropolitan Area in Maricopa County and Tucson Metropolitan Area in Pima County, respectively) and smaller, rural communities located between these urban centers (primarily located in Pinal County). Historic rapid employment and population growth throughout the region is well-documented. In general, the growing regional, intercity, and commuter travel demand generated by the historic growth has been accommodated by an automobile-dominated surface transportation network anchored by Interstate 10—the primary contiguous high capacity facility in the region. Additional surface transportation facilities include rural state routes such as State Route 79, and local roadway networks serving the cities and communities in the study area. There are no public transportation services that directly connect the Phoenix and Tucson urban centers. Mobility between these cities is predominantly served by private automobile; additionally, commercial air service and private bus/shuttle services are available.

II. Identification for Project Need

In March 2010 the ADOT completed the Statewide Transportation Planning Framework study. This study concluded that Arizona cannot address future congestion by continuing to rely almost exclusively on roadways to move people. High capacity services such as rail offer an efficient and attractive form of transportation to move people and the Tier 1 EIS will investigate passenger rail as a viable transportation solution.

Existing and future travel patterns, existing transit services, travel times, and population growth in the study area all demonstrate an existing as well as an evolving mobility need. The mobility need clearly indicates five study area markets where demand exists or will exist in the reasonably foreseeable future:

(1) Intercity mobility between the Tucson and Phoenix Metropolitan Areas.

(2) Commuter mobility between Phoenix and nearby suburban communities within Maricopa County.

(3) Commuter mobility between Tucson and nearby suburban communities within Pima County.

(4) Commuter mobility between activity centers in Pinal County and the Phoenix Metropolitan Area.

(5) Commuter mobility between activity centers in Pinal County and the Tucson Metropolitan Area.

Current travel conditions are represented by the following:

Travel demand in the Sun Corridor historically has been significant. Over 51,000 daily trips occurred on two north-south roads, Interstate 10 (I-10) and State Route 79 (SR 79) in 2008. Twenty-two percent of the daily vehicle traffic on these roads completed a commute-type trip, i.e., departing from and returning to the same location.

From 2006 to 2008, daily inter-county commute trips within the three counties exceeded 75,000. Daily commute trips from Maricopa to Pima numbered 2,980, and commute trips in the reverse direction numbered 2,260. The commute from Pinal County to Maricopa County represented about 68 percent of all inter-county commute trips (51,625), with the second most desired trip (13,265) being in the reverse direction, between Maricopa and Pinal counties, representing about 18 percent of all inter-county commute trips. By 2050, as Pinal County's employment grows significantly, these latter figures are expected to increase accordingly.

In 2011, the only modes of surface transportation available for travel between Phoenix and Tucson and the area in between are private auto or common carrier (bus); with the majority of commuter, regional, and intercity travel using I-10 and SR 79. Despite recent widening of sections of I-10 in the study area, the interstate still experiences well-documented increasing durations of severe congestion and failed operation.

Need for Intercity Mobility

The 2050 projected travel demand in the Sun Corridor is expected to have a substantial adverse effect on the Sun Corridor's surface transportation network. A comparison of 2010 travel times with those modeled by ADOT's statewide travel demand model for 2050 indicates peak-period travel times would increase by over 100 percent for most trips, resulting in lost time and productivity. For example, the duration of a trip from Phoenix to Tucson—which now takes approximately 95 minutes—would increase to nearly 5½ hours by 2050, assuming drivers are willing to travel that long to cover the distance between the two urban areas. This also assumes I-10 has been widened to as many as ten lanes during this period, indicating the need for parallel transportation options along the I-10 corridor. Further, the continued and growing demand to use I-10 as the primary intercity and commuter route in the corridor will contribute to growing congestion, reduced capacity, and reduced dependability on the facility.

In lieu of increasing capacity through continued highway widening, rail would facilitate mobility within existing and future travel markets by providing additional transportation capacity using an additional dependable travel mode.

Need for Commuter Mobility

By 2050, the employment and population makeup of the Sun Corridor will be substantially different than it is in 2011, and as a result, the Sun Corridor is projected to become one of the expansive urban areas across the United States that will account for the majority of the country's future growth. In 2050, while the Phoenix and Tucson areas will continue as major population and employment centers, the area between Phoenix and Tucson will experience tremendous population and employment growth, creating a singular urbanized corridor in the three counties. With a projected population nearing 12 million people by 2050, the urbanized corridor will be characterized by dense employment and population centers in and around Phoenix and Tucson and similar population and employment centers in western Pinal County, generally along high-capacity transportation corridors.

Statewide, Arizona's population is projected to more than double in the next 40 years, from 6.4 million to 16 million, with most development resulting from growth occurring within the Sun Corridor region. Forecasted population change in the Sun Corridor is summarized below. Between the years 2009 and 2050:

• Maricopa County population is projected to increase by 90 percent from 4,023,000 to 7,622,700.

• Pima County population is projected to increase by 96 percent from 1,018,000 to 1,990,300.

• Pinal County population is projected to increase by 494 percent from 356,000 to 2,113,000—the highest growth rate of any identified megapolitan region in the nation.

Employment growth projections for the same three-county area in the next 40 years are even more dramatic. From 2009 to 2050:

• Maricopa County employment is projected to increase by 132 percent.

• Pima County population is projected to increase by 87 percent.

• Pinal County employment is projected to increase by 850 percent.

The substantial new population and employment in Pinal County between the existing major urban areas will be distinguished by its focus on high-density activity centers in accordance with the region's long-range planning objectives. The redistribution of employment and population towards the center of the Sun Corridor will add to existing commuter and intercity mobility needs in the region. Within the planning horizon, commuter mobility to activity centers in Pinal County from Maricopa and Pima Counties will make up a substantial portion of the overall region's mobility needs. Further, the overall increase in travel demand within the corridor will further burden an already capacity-deficient system.

III. Alternatives To Be Considered

This study will satisfy the requirements of NEPA as well as FTA requirements for an Alternative Analysis that will permit consideration for New Starts funding. Under the New Starts Program, alternatives for consideration in the Alternatives Analysis process will include:

• A No-build alternative (also known as no-action: future condition in the study area implementing only currently approved transportation plans),

• A Baseline alternative (future condition in the study area without the proposed high-capacity guideway improvements and implementing only transportation systems management [TSM] type improvements), and

• Build alternatives to address the need of passenger rail service between Tucson, Arizona and Phoenix, Arizona.

A range of conceptual alignments by segment, alternative endpoints, and modes/technologies that have been identified in previous plans and studies have been proposed to constitute the potential build alternatives. However, alignment concepts specific to this study area will be further defined during scoping and the alternatives development process. Definition of compatible local transit systems to serve as a complement to the Build network would be part of alternatives development. Build alternatives will need to address the need for both intercity mobility and commuter mobility, and could potentially include the pairing of any combination of alignments and endpoints to define an overall alternative. Each alternative as defined would have independent utility to serve the mobility needs in the corridor as defined by the project need (See Section II).

IV. Probable Effects

The FRA, FTA, and ADOT will evaluate direct, indirect and cumulative changes to the social, economic, and physical environment—including land use and socioeconomic conditions, ecology, water resources, historic and archaeological resources, visual character and aesthetics, contaminated and hazardous materials, transportation, air quality, noise and vibration, and environmental justice. The analysis will be undertaken consistent with the National Environmental Policy Act, Council on Environmental Quality regulations defined previously, Section 106 of the National Historic Preservation Act, the Endangered Species Act, Clean Air Act, Clean Water Act, FRA's Environmental Procedures, FTA regulations, ADOT guidance, and Section 4(f) of the Department of Transportation Act of 1966, along with other applicable Federal and state regulations in the level of detail appropriate for a Tier 1 EIS.

V. Scoping Process

FRA, FTA, and ADOT invite all interested individuals, organizations, Native American groups, and Federal, state, and local agencies to comment on the scope of the Tier 1 EIS. Comments are invited from all interested agencies and the public to ensure the full range of issues related to the Tier 1 EIS are addressed and all significant issues are identified. In particular, FRA, FTA, and ADOT are interested in identifying areas of environmental concern where there might be a potential for significant impacts. Public agencies with jurisdiction are requested to advise FRA, FTA, and ADOT of the applicable permit and environmental review requirements of each agency, and the scope and content of the environmental information that is germane to the agency's statutory responsibilities in connection with the proposed action. Public agencies are requested to advise FRA, FTA, and ADOT if they anticipate taking a major action in connection with the proposed action and if they wish to cooperate in the preparation of the Tier 1 EIS.

Comments are encouraged on specific social, economic, or environmental issues to be evaluated, and on reasonable alternatives that may be less costly, more cost-effective, or have fewer environmental or community impacts while achieving similar transportation objectives.

ADOT will be leading the outreach activities during the public scoping process, beginning with the scoping meetings identified under DATES above. Following the public scoping process, public outreach activities will include meetings with the regional Corridor Support Teams established for the study, as well as meetings with interested parties or small groups. Those wishing to participate in one of the Corridor Support Teams may do so by registering on the project Web site at http://www.azdot.gov/intercityrail.

The scoping meetings described in this notice will also be the subject of additional public notification including periodic updates to the project Web site to reflect the project's status. In addition, newsletters will be circulated to a broad constituency to ensure people are informed about the proposed action. Additional opportunities for public participation will be announced through mailings, notices, advertisements, and press releases.

VI. FTA New Starts Process

Federal transit law requires that the transit alternatives proposed for New Starts funding undergo an evaluation separate from the NEPA evaluation. The New Starts evaluation considers national criteria that are used to compare projects across the nation competing for New Starts funding. These criteria include: Cost, cost-effectiveness, transit system user benefits, economic development effects, operating efficiencies, environmental benefits, transit-supportive land use patterns served by the project, the financial plan for building the project, the financial plan for operating the resulting transit system, and the size of the state or local financial commitment to the project. FTA provides detailed guidance on how to perform this analysis and oversees its execution closely.

VII. Paperwork Reduction Act

The Paperwork Reduction Act seeks, in part, to minimize the cost to the taxpayer of the creation, collection, maintenance, use, dissemination, and disposition of information. Consistent with this goal and with principles of economy and efficiency in government, it is the policy of FRA and FTA to limit insofar as possible distribution of complete printed sets of environmental documents. Accordingly, unless a specific written request for a complete printed set of environmental documents is received by the close of the scoping process by the Contact identified under ADDRESSES, the FRA, FTA, and ADOT will distribute only the executive summary and a Compact Disc (CD) of the complete environmental document. A complete printed set of the environmental document will be available for review at ADOT's offices and select repositories; an electronic copy of the complete environmental document will also be available on the project Web site: http://www.azdot.gov/intercityrail.

Issued in Washington, DC on October 3, 2011.
Mark E. Yachmetz,
Associate Administrator for Railroad Policy and Development, Federal Railroad Administration.
Leslie T. Rogers,
Regional Administrator, Federal Transit Administration Region 9.

[FR Doc. 2011-25885 Filed 10-5-11; 8:45 am]

BILLING CODE P